DEPARTMENT OF TRANSPORTATION

National Highway Traffic Safety Administration

[U.S. DOT Docket No. NHTSA-2010-0038]

Reports, Forms, and Record Keeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995 (44 U.S.C. 3501 et seq.), before seeking OMB approval, Federal agencies must solicit public comment on proposed collections of information, including extensions and reinstatements of previously approved collections.

This document describes an Information Collection Request (ICR) for which NHTSA intends to seek OMB approval.

DATES: Comments must be submitted on or before July 12, 2010.

ADDRESSES: Direct all written comments to the U.S. Department of Transportation Dockets, 1200 New Jersey Ave, SE., Washington, DC, 20590. Docket No. NHTSA-2010-0038.

FOR FURTHER INFORMATION CONTACT: Randolph Atkins, PhD, Contracting Officer's Technical Representative, Office of Behavioral Safety Research (NTI-131), National Highway Traffic Safety Administration, 1200 New Jersey Ave, SE., W46-500, Washington, DC, 20590. Dr. Atkins' phone number is 202-366-5597 and his e-mail address is randolph.atkins@dot.gov.

SUPPLEMENTARY INFORMATION:

Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks public comment on the following proposed collection of information:

Title: Investigate the Use and Feasibility of Speed Warning Devices.

Type of Request: New information collection request—debriefing session follow-up with participants from an earlier on-road instrumented vehicle study.

OMB Clearance Number: N/A.

Form Number: This collection of information uses no standard forms.

Requested Expiration Date of Approval: September 17, 2011.

Summary of the Collection of Information: In this pilot study, the National Highway Traffic Safety Administration (NHTSA) will be conducting on-road instrumented vehicle data collection in the Rockville, MD area with a total of 80 participants who have a history of speeding violations to examine the impact of in-vehicle speed warning devices on their driving speed patterns and speeding behavior. Participants will be asked to install a speed warning device for eight weeks. The device will provide data on travel speeds of participants' vehicle coupled with GPS information that is linked to a database with speed limits for various sections of roads in the study area. This data will be automatically transmitted from the vehicle to the research office for data analyses. After completing their on-road phase of the data collection, participating drivers will be asked to participate in a short debriefing interview while the in-vehicle warning device is removed from their vehicle. The debriefing sessions will focus on the drivers' subjective experience regarding the speed warning device—how it affected their driving behavior, any problems experienced with the device, how they interacted with the device, and their opinion of the device, as well as feedback on their experience as a participant in the research study. This subjective data will be coupled with the data from their actual driving behavior to help NHTSA develop a better understanding of speeding and speeders and the potential acceptance and effectiveness of using speed warning devices as a countermeasure to alter the speeding behavior of habitual speeders. The debriefing sessions are expected to provide data relevant to implementation issues and concerns associated with the device, as well as the key advantages and disadvantages associated with the use of this device as a countermeasure.

Description of the Need for the Information and Proposed Use of the Information—The National Highway Traffic Safety Administration (NHTSA) was established by the Highway Safety Act of l970 (23 U.S. C. 101) to carry out a Congressional mandate to reduce the mounting number of deaths, injuries, and economic losses resulting from motor vehicle crashes on the Nation's highways. Speeding is one of the primary factors leading to vehicle crashes. In 2008, 31% of all fatal crashes were speeding-related. The estimated economic cost to society for speeding-related crashes is $40.4 billion per year. Driving at higher speeds reduces the ability of drivers to avoid obstacles or react to sudden changes in the roadway environment and increases the severity of crashes. The pervasiveness of speeding behavior is reflected in a recent national survey that showed that approximately 75% of all drivers reported speeding in the past month. Of particular concern are the habitual speeders and aggressive drivers for whom other countermeasures, such as enforcement, licenses suspensions, and fines, are not effective deterrents. The data collected in this study will provide NHTSA with important information on a countermeasure with the potential to address an especially challenging segment of the driving population that poses an inordinately high safety risk to themselves and other drivers who share the roads with them. In support of its mission, NHTSA will use the findings from these debriefing sessions to improve current programs, interventions and countermeasures for speeding on our Nation's highways in order to achieve the greatest benefit in decreasing crashes and resulting injuries and fatalities, and provide informational support to States, localities, and law enforcement agencies that will aid them in their efforts to reduce traffic crashes.

Description of the Likely Respondents (Including Estimated Number, and Proposed Frequency of Response to the Collection of Information)—Each of the 80 participants in the on-road instrumented vehicle portion of the study will be asked to participate in an individual debriefing session while the speed warning device is being removed from their vehicle. These debriefing sessions are expected to begin in October 2010 and continue until the last participant completes his or her on-road portion of the study in March 2011. Session participation would be voluntary. Participants will be compensated with a $150 honorarium for data collection, including having the device installed on their vehicle.

Estimate of the Total Annual Reporting and Record Keeping Burden Resulting from the Collection of Information—Each of the individual debriefing sessions will last approximately 30 minutes, which is the approximate time it will take to remove the speed warning device from their vehicle. Participants will be recruited through the MVA or insurance companies based on their driving history, i.e. participants will have a prior history of multiple speeding violations. Participants will be stratified into 40 male and 40 female participants. Half of each gender group recruited will be under 30 years of age and the other half will be 30 years of age and older. The total estimated annual burden is approximately 40 hours for the debriefing sessions. The respondents would not incur any reporting cost from the information collection and they would not incur any record keeping burden or record keeping cost from the information collection.

Authority: 44 U.S.C. 3506(c)(2)(A).

Jeff Michael,
Associate Administrator, Research and Program Development.

[FR Doc. 2010-11312 Filed 5-11-10; 8:45 am]

BILLING CODE 4910-59-P